DEPARTMENT OF THE INTERIOR

Bureau of Land Management

[LLORW00000 L51010000.ER0000.WBSLVRWH09570; HAG-12-0154]

Notice of Availability of the Draft Environmental Impact Statement for the Proposed Vantage-Pomona Heights 230kV Transmission Line Project in Yakima, Grant, Benton, and Kittitas Counties, WA

AGENCY: Bureau of Land Management, Interior.

ACTION: Notice of availability.

SUMMARY: In accordance with the National Environmental Policy Act of 1969, as amended (NEPA), the Bureau of Land Management (BLM) has prepared a Draft Environmental Impact Statement (EIS) for the Vantage-Pomona Heights 230kV Transmission Line Project and by this notice is announcing the opening of the comment period.

DATES: To ensure comments will be considered, the BLM must receive written comments on the Draft EIS within 45 days following the date the Environmental Protection Agency publishes its Notice of Availability in the Federal Register. The BLM will announce future meetings or hearings and any other public involvement activities at least 15 days in advance through public notices, media releases, and/or mailings.

ADDRESSES: You may submit comments related to the Vantage-Pomona Heights 230kV Transmission Line Project by any of the following methods:

• Email: BLM_OR_WN_Mail@blm.gov (please reference Vantage to Pomona Heights EIS in the subject line).

• Mail/hand-deliver to: BLM Wenatchee Field Office, Attn: Vantage to Pomona Heights EIS, 915 Walla Walla Avenue, Wenatchee, Washington 98801-1521.

• Fax: 509-665-2121: Attention Vantage to Pomona Heights EIS Project Lead.

Copies of the Draft EIS are available at the BLM Wenatchee Field Office at the address listed above and electronically at the following Web site: http://www.blm.gov/or/districts/spokane/plans/vph230.php.

FOR FURTHER INFORMATION CONTACT: William Schurger, Realty Specialist, at 509-655-2100; or email: BLM_OR_WN_Mail@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The project proponent, Pacific Power, has filed applications for rights-of-way with the BLM, the U.S. Department of Defense Joint Base Lewis McChord-Yakima Training Center (Yakima Training Center), and the U.S. Bureau of Reclamation (Reclamation) for construction, operation, and maintenance of a 230-kilovolt (kV) transmission line from Pacific Power's Pomona Heights substation located east of Selah, Washington, in Yakima County to the Bonneville Power Administration Vantage substation located just east of the Wanapum Dam in Grant County, Washington. The BLM is the Federal lead agency for the NEPA analysis process and preparation of the EIS. Cooperating agencies include: The Yakima Training Center; Reclamation; Bonneville Power Administration; Grant County and Yakima County, Washington; and the Washington State Department of Fish and Wildlife.

The proponent's interest in the new line is to enhance overall operating flexibility and security of the regional transmission grid and to improve system reliability in the Yakima Valley.

As suggested by Pacific Power, under all alternatives, most of the proposed transmission line would be constructed on H-Frame wood pole structures between 65- and 90-feet tall and spaced approximately 650 to 1,000 feet apart depending on terrain. In developed or agricultural areas, single wood or steel monopole structures would be used. The single pole structures would be between 80- and 110-feet tall and spaced approximately 400 to 700 feet apart. The right-of-way width for the H-Frame structure type would be between 125 to 150 feet and for the single pole structure type between 75 to 100 feet. For the Columbia River crossing either near the Midway substation or below the Wanapum Dam, steel lattice structures approximately 200-feet tall would be used to safely span the up to 2,800-foot crossing.

The eight alternative routes considered in the Draft EIS range from 61 to 67 miles in length. In addition to the proposed action, the Draft EIS considers the No Action alternative and identifies a preferred alternative. The preferred alternative would be 66.3 miles in length. This route would cross 5.4 miles of Federal lands managed by the BLM, 5.4 miles of Federal lands managed by Reclamation, 12.5 miles of Federal land managed by the Yakima Training Center, 1 mile of State land, 0.4 miles of water, and 41.6 miles of privately owned lands. Starting at the endpoint, the preferred route would run generally east from the Pomona Heights Substation near Selah, Washington, continuing eastward, south of the Yakima Training Center through Yakima County. The preferred route would then travel a short distance into Benton County before turning northward, where it would cross the Columbia River into Grant County. From there the route would run northward, partially along the N Road and then across the Saddle Mountains to the Vantage Substation, east of Wanapum Dam. Other system alternatives and route variations were considered but eliminated from detailed study.

The Draft EIS identifies measures to mitigate adverse impacts for the alternatives. Major issues brought forward during the public scoping process and addressed in the Draft EIS include:

(1) Land use conflicts and effects on agricultural operations and property values;

(2) Effects on wildlife habitat, plants, and animals including threatened, endangered, and sensitive species (especially sage-grouse);

(3) Effects to visual resources and existing view sheds;

(4) Effects to cultural resources;

(5) Effects to soils and water from surface-disturbing activities;

(6) Social and economic effects;

(7) Management and control of invasive plant species; and

(8) Public health and safety.

A Notice of Intent to prepare an EIS for the Vantage-Pomona Heights 230kV Transmission Line Project was published in the Federal Register on January 5, 2009 (75 FR 31240). Public participation was solicited through the media, mailings, and the BLM Web site. Public meetings were held in Selah and Mattawa, Washington.

Before including your address, phone number, email address, or other identifying information in your comment, you should be aware that your entire comment—including your personal identifying information—may be made publicly available at any time. While you can ask us in your comment to withhold your personal identifying information from public review, we cannot guarantee that we will be able to do so.

Authority: 40 CFR 1506.6 and 1506.10.

Daniel C. Picard,
BLM Spokane District Manager.

[FR Doc. 2012-31609 Filed 1-3-13; 8:45 am]

BILLING CODE 4310-33-P